NUCLEAR REGULATORY COMMISSION

[Docket No. 50-244]

Rochester Gas and Electric Corp.; R. E. Ginna Nuclear Power Plant; Notice of Receipt of Application for Renewal of Facility Operating License No. DPR-18 for an Additional 20-Year Period

On August 1, 2002, the U.S. Nuclear Regulatory Commission received, by letter dated July 30, 2002, an application from the Rochester Gas and Electric Company, filed pursuant to Section 104b of the Atomic Energy Act of 1954, as amended, and 10 CFR part 54, which would authorize the applicant to operate the R. E. Ginna Nuclear Power Plant for an additional 20-year period. The current operating license for the R. E. Ginna Nuclear Power Plant expires on September 18, 2009. The R. E. Ginna Nuclear Power Plant is a pressurized water reactor designed by Westinghouse Electric Company and is located in Wayne County, New York. The acceptability of the tendered application for docketing and other matters, including an opportunity to request a hearing, will be the subject of a subsequent Federal Register notice.

Copies of the application are available for public inspection at the Commission's Public Document Room, located at One White Flint North, 11555 Rockville Pike (first floor), Rockville, Maryland, or electronically from the Publicly Available Records (PARS) component of the NRC's Agencywide Documents Access and Management System (ADAMS). The ADAMS Public Electronic Reading Room is accessible from the NRC Web site at http://www.nrc.gov/reading-rm/adams.html. In addition, the application is available on the NRC web page at http://www.nrc.gov/reactors/operating/licensing/renewal/applications.html, while the application is under review. If you do not have access to ADAMS, or if there are problems in accessing the documents located in ADAMS, please contact the NRC Public Document Room (PDR) Reference staff at 1-800-397-4209, 301-415-4737, or by e-mail to pdr@nrc.gov.

The license renewal application for the R. E. Ginna Nuclear Power Plant is also available to local residents at the Rochester Public Library, in Rochester, New York, and at the Ontario Public Library, in Ontario, New York.

Dated at Rockville, Maryland, this 19th day of August, 2002.
For the Nuclear Regulatory Commission.
Pao-Tsin Kuo,
Program Director, License Renewal and Environmental Impacts Program, Division of Regulatory Improvement Programs, Office of Nuclear Reactor Regulation.

[FR Doc. 02-21643 Filed 8-23-02; 8:45 am]

BILLING CODE 7590-01-P